DEPARTMENT OF HEALTH AND HUMAN SERVICES

Centers for Disease Control and Prevention

[30Day-13-0008]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

Emergency Epidemic Investigations (0920-0008)—Revision—Scientific Education and Professional Development Program Office (SEPDPO), Office of Surveillance, Epidemiology, and Laboratory Services (OSELS), Centers for Disease Control and Prevention (CDC).

Background and Brief Description

One of the objectives of CDC's epidemic services is to provide for the prevention and control of epidemics, and protect the population from public health crises such as human-made or natural biological disasters and chemical emergencies. CDC meets this objective, in part, by training investigators, maintaining laboratory capabilities for identifying potential problems, collecting and analyzing data, and recommending appropriate actions to protect the public's health. When state, local, or foreign health authorities request help in controlling an epidemic or solving other health problems, CDC dispatches skilled epidemiologists from the Epidemic Intelligence Service (EIS) to investigate and resolve the problem. Resolving public health problems rapidly ensures cost-effective health care and enhances health promotion and disease prevention.

The purpose of the Emergency Epidemic Investigation data collection project is to collect data on the conditions surrounding and preceding the onset of a problem. The data must be collected in a timely fashion so that information can be used to develop prevention and control techniques, to interrupt disease transmission and to help identify the cause of an outbreak. Since the events necessitating the collections of information are of an emergency nature, most data collection is done by direct interview or written questionnaire and are one-time efforts related to a specific outbreak or circumstance. If during the emergency investigation, the need for further study is recognized, a project is designed and separate OMB clearance is required. Interviews are conducted to be as unobtrusive as possible and only the minimal information necessary is collected. The Emergency Epidemic Investigations data collection project is the principal source of data on outbreaks of infectious and noninfectious diseases, injuries, nutrition, environmental health, and occupational problems.

Each investigation contributes to the general knowledge about a particular type of problem or emergency, so that data collections are designed taking into account knowledge gained during similar situations in the past. Some questionnaires have been standardized, such as investigations of outbreaks aboard aircraft or cruise vessels.

The Emergency Epidemic Investigations data collection project provides a range of data on the characteristics of outbreaks and those affected by outbreaks. Data collected include demographic characteristics of the affected population, exposure to the causative agent(s), transmission patterns, and severity of the outbreak. These data, together with trend data, may be used to monitor the effects of change in the health care system, plan health services, improve the availability of medical services, and assess the health status of the population.

Users of the Emergency Epidemic Investigations data include, but are not limited to, Epidemic Intelligence Service (EIS) officers of the CDC, who investigate the patterns of disease or injury, the level of risky behaviors, causative agents, the transmission of the condition, and the impact of interventions. EIS is a two-year program of training and service in applied epidemiology through CDC, primarily for persons holding doctoral degrees.

Predicting the number of epidemic investigations that might occur in any given year is difficult. The previous three years' experience shows an annualized burden of 3,750 hours and respondent total of 15,000. After completion of the Epi-Aid investigation, using the Epi-Aid Satisfaction Survey for Requesting Officials, data are collected from 100 state and local health officials for an annualized total of 25 burden hours. For this clearance, CDC is requesting 3,775 total burden hours.

Estimated Annualized Burden Hours
Respondents | Form name | Number of respondents | Number of responses per respondent | Average burden per response (in hours)
Requestors of Epi-Aids | Epi-Aid Satisfaction Survey for Requesting Official | 100 | 1 | 15/60
General Public | Emergency Epidemic Investigations | 15,000 | 1 | 15/60

Dated: November 13, 2012.
Ron A. Otten,
Director, Office of Scientific Integrity (OSI), Office of the Associate Director for Science (OADS), Office of the Director, Centers for Disease Control and Prevention.

[FR Doc. 2012-28083 Filed 11-16-12; 8:45 am]

BILLING CODE 4163-18-P